NUCLEAR REGULATORY COMMISSION

[Docket No. 70-7018; NRC-2013-0115]

Tennessee Valley Authority for Watts Bar Nuclear Power Plant Unit 2; Special Nuclear Materials License Renewal

AGENCY: Nuclear Regulatory Commission.

ACTION: License renewal; issuance.

SUMMARY: The U.S. Nuclear Regulatory Commission (NRC) has renewed Materials License No. SNM-2014 held by Tennessee Valley Authority (TVA) to possess, inspect and store an initial core of special nuclear material (SNM) in the form of fresh fuel assemblies at TVA's Watts Bar site in Spring City, Tennessee. On August, 23, 2012, TVA submitted its renewal application for their SNM license to extend their license expiration. NRC has reviewed TVA's license renewal application and submittals, and has renewed TVA's license to expire on September 30, 2017.

DATES: August 29, 2014.

ADDRESSES: Please refer to Docket ID NRC-2013-0115 when contacting the NRC about the availability of information regarding this document. You may obtain publicly-available information related to this document using any of the following methods:

• Federal Rulemaking Web site: Go to http://www.regulations.gov and search for Docket ID NRC-2013-0115. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Further Information” section of this document.

• NRC's PDR: You may examine and purchase copies of public documents at the NRC's PDR, Room O1-F21, One White Flint North, 11555 Rockville Pike, Rockville, Maryland 20852.

FOR FURTHER INFORMATION CONTACT: Marilyn Diaz, Office of Nuclear Material Safety and Safeguards, U.S. Nuclear Regulatory Commission, Washington, DC 20555-0001; telephone: 301-287-9068, email: Marilyn.Diaz@nrc.gov.

SUPPLEMENTARY INFORMATION:

I. Background

Pursuant to Section 2.106 of Title 10 of the Code of Federal Regulations (10 CFR), the NRC is providing notice of the issuance of License Renewal to Material License No. SNM-2014, to continue to possess, inspect and store an initial core of SNM in the form of fresh fuel assemblies at the Watts Bar Nuclear Plant Unit 2 site in Spring City, Tennessee. This license is subject to the requirements of 10 CFR Part 70, Domestic Licensing of Special Nuclear Material. The licensee's request for renewal of its license was previously noticed in the Federal Register on August 22, 2013 (78 FR 52219), with a notice of an opportunity to request a hearing. No hearing requests were received. In accordance with 10 CFR Part 51, an environmental assessment of this action was completed and a finding of no significant impact was published in the Federal Register on December 17, 2013 (78 FR 76328).

This license renewal complies with the standards and requirements of the Atomic Energy Act of 1954, as amended, and the NRC's rules and regulations as set forth in 10 CFR Chapter 1. Accordingly, this license renewal was issued on July 24, 2014, and is effective immediately.

II. Further Information

The NRC has prepared a Safety Evaluation Report that documents the information that was reviewed and the NRC's conclusion In accordance with 10 CFR 2.390 of the NRC's “Rules of Practice,” the details with respect to this action, including the SER and accompanying documentation and license, are available electronically at the NRC's Electronic Reading Room at http://www.nrc.gov/reading-rm/adams.html. From this site, you can access the NRC's Agencywide Document Access and Management System (ADAMS), which provides text and image files of the NRC's public documents. The ADAMS accession numbers for the documents related to this notice are:

1 TVA's renewal application for Watt Bar Unit 2 part 70 license, August 23, 2012 | ML12278A337
2 Response to Request for Additional Information, July 1, 2013 | ML13189A033
3 Renewal of SNM-2014 For WBN-2 Letter to J. Grimes, July 24, 2014 | ML14050A169
4 NRC Safety Evaluation Report, July 24, 2014 | ML14050A171
5 Renewed Special Materials License for WBN-2, July 24, 2014 | ML14050A170

Dated at Rockville, Maryland, this 25 day of August, 2014.
For the U.S. Nuclear Regulatory Commission.
Marilyn Diaz,
Project Manager, Fuel Manufacturing Branch, Division of Fuel Cycle Safety and Safeguards, Office of Nuclear Material Safety and Safeguards.

[FR Doc. 2014-20670 Filed 8-28-14; 8:45 am]

BILLING CODE 7590-01-P